DEPARTMENT OF AGRICULTURE

Office of the Secretary

Commission on 21st Century Production Agriculture

ACTION: Notice of meeting.

SUMMARY: The U.S. Department of Agriculture (USDA) has established the Commission on 21st Century Production Agriculture. In accordance with Section 10(a)(2) of the Federal Advisory Committee Act (FACA), notice is hereby given of the meetings in September of the Commission on 21st Century Production Agriculture. The purpose of the meetings on September 13-15, 2000 is a working session to address issues regarding agricultural policy initiatives to be included in the Commission report. These meetings are open to the public.

PLACE, DATE, AND TIME OF MEETING: The meetings will be held September 13, 2000, from 1:30 p.m.-5 p.m. in Room 221-A, September 14, 2000, from 8 a.m. to 5 p.m. in Room 108-A, and September 15, 2000, from 8 a.m. to 12 p.m. in Room 221-A, Whitten Building.

FOR FURTHER INFORMATION CONTACT: Mickey Paggi (202-720-3139), Director, Commission on 21st Century Production Agriculture, Room 3702 South Building, 1400 Independence Avenue, SW, Washington, DC 20250-0524.

Dated: August 25, 2000.
Keith J. Collins,
Chief Economist.

[FR Doc. 00-22153 Filed 8-29-00; 8:45 am]

BILLING CODE 3410-01-M